DEPARTMENT OF COMMERCE

International Trade Administration

[A-580-894]

Certain Tapered Roller Bearings From the Republic of Korea: Initiation of Less-Than-Fair-Value Investigation

AGENCY: Enforcement and Compliance, International Trade Administration, Department of Commerce.

DATES: Issued July 18, 2017.

FOR FURTHER INFORMATION CONTACT: Blaine Wiltse at 202-482-6345, or Manuel Rey at 202-482-5518, AD/CVD Operations, Enforcement and Compliance, International Trade Administration, U.S. Department of Commerce, 1401 Constitution Avenue NW., Washington, DC 20230.

SUPPLEMENTARY INFORMATION:

The Petition

On June 28, 2017, the U.S. Department of Commerce (the Department) received an antidumping duty (AD) petition concerning imports of certain tapered roller bearings (TRBs) from the Republic of Korea (Korea), filed in proper form, on behalf of the Timken Company (the petitioner).¹ The petitioner is a domestic producer of TRBs.²

¹ See Petition for the Imposition of Antidumping Duties on Imports of Certain Tapered Roller Bearings from the Republic of Korea, dated June 28, 2017 (the Petition).

² See Volume I of the Petition, at 1 and Exhibit I-1.

On July 3, 2017, the Department requested supplemental information pertaining to certain areas of the Petition.³ The petitioner filed its response to this request, including corrections to the margin calculations and revised scope language, on July 6, 2017.⁴ On July 11, 2017, the petitioner filed an additional amendment to the Petition.⁵

³ See Department Letter re: Petition for the Imposition of Antidumping Duties on Imports of Certain Tapered Roller Bearings from the Republic of Korea: Supplemental Questions, dated July 3, 2017.

⁴ See Letter from the petitioner re: Petitioner's Response to the Department of Commerce's July 3, 2017 Supplemental Questionnaire Regarding the Petition for the Imposition of Antidumping Duties on Imports of Tapered Roller Bearings from the Republic of Korea, dated July 6, 2017 (Petition Supplement).

⁵ See Letter from the petitioner re: Petitioner's Scope Clarification Regarding the Antidumping Investigation on Certain Tapered Roller Bearings from the Republic of Korea, dated July 11, 2017 (Scope Clarification).

In accordance with section 732(b) of the Tariff Act of 1930, as amended (the Act), the petitioner alleges that imports of TRBs are being, or are likely to be, sold in the United States at less than fair value within the meaning of section 731 of the Act, and that such imports are materially injuring, or threatening material injury to, the domestic industry producing TRBs in the United States. Also, consistent with section 732(b)(1) of the Act, the Petition is accompanied by information reasonably available to the petitioner supporting its allegations.

The Department finds that the petitioner filed this Petition on behalf of the domestic industry because the petitioner is an interested party as defined in section 771(9)(C) of the Act. The Department also finds that the petitioner demonstrated sufficient industry support with respect to the initiation of the AD investigation that the petitioner is requesting.⁶

⁶ See “Determination of Industry Support for the Petition” section, below.

Period of Investigation

Because the Petition was filed on June 28, 2017, the period of investigation (POI) is April 1, 2016, through March 31, 2017.

Scope of the Investigation

The product covered by this investigation is TRBs from Korea. For a full description of the scope of this investigation, see the “Scope of the Investigation,” in the Appendix to this notice.

Comments on Scope of the Investigation

During our review of the Petition, the Department issued questions to, and received responses from, the petitioner pertaining to the proposed scope to ensure that the scope language in the Petition would be an accurate reflection of the products for which the domestic industry is seeking relief.⁷

⁷ See Petition Supplement, at 1-5 and Exhibit SQ-1; see also Scope Clarification.

As discussed in the preamble to the Department's regulations, we are setting aside a period for interested parties to raise issues regarding product coverage (scope).⁸ The Department will consider all comments received from interested parties and, if necessary, will consult with interested parties prior to the issuance of the preliminary determination. If scope comments include factual information,⁹ all such factual information should be limited to public information. To facilitate preparation of its questionnaires, the Department requests all interested parties to submit such comments by 5:00 p.m. Eastern Time (ET) on Monday, August 7, 2017, which is 20 calendar days from the signature date of this notice. Any rebuttal comments, which may include factual information, must be filed by 5:00 p.m. ET on Thursday, August 17, 2017, which is 10 calendar days from the initial comments deadline.¹⁰

⁸ See Antidumping Duties; Countervailing Duties, Final Rule, 62 FR 27296, 27323 (May 19, 1997).

⁹ See 19 CFR 351.102(b)(21) (defining “factual information”).

¹⁰ See 19 CFR 351.303(b).

The Department requests that any factual information the parties consider relevant to the scope of the investigation be submitted during this time period. However, if a party subsequently finds that additional factual information pertaining to the scope of the investigation may be relevant, the party may contact the Department and request permission to submit the additional information.

Filing Requirements

All submissions to the Department must be filed electronically using Enforcement and Compliance's Antidumping Duty and Countervailing Duty Centralized Electronic Service System (ACCESS).¹¹ An electronically filed document must be received successfully in its entirety by the time and date it is due. Documents exempted from the electronic submission requirements must be filed manually (i.e., in paper form) with Enforcement and Compliance's APO/Dockets Unit, Room 18022, U.S. Department of Commerce, 1401 Constitution Avenue NW., Washington, DC 20230, and stamped with the date and time of receipt by the applicable deadline.

¹¹ See Antidumping and Countervailing Duty Proceedings: Electronic Filing Procedures; Administrative Protective Order Procedures, 76 FR 39263 (July 6, 2011); see also Enforcement and Compliance; Change of Electronic Filing System Name, 79 FR 69046 (November 20, 2014) for details of the Department's electronic filing requirements, which went into effect on August 5, 2011. Information on help using ACCESS can be found at https://access.trade.gov/help.aspx and a handbook can be found at https://access.trade.gov/help/Handbook%20on%20Electronic%20Filling%20Procedures.pdf.

Comments on Product Characteristics for AD Questionnaires

The Department will provide interested parties an opportunity to comment on the appropriate physical characteristics of TRBs to be reported in response to the Department's AD questionnaires. This information will be used to identify the key physical characteristics of the merchandise under consideration in order to report the relevant costs of production accurately as well as to develop appropriate product-comparison criteria.

Interested parties may provide any information or comments that they feel are relevant to the development of an accurate list of physical characteristics. Specifically, they may provide comments as to which characteristics are appropriate to use as: (1) General product characteristics and (2) product-comparison criteria. We note that it is not always appropriate to use all product characteristics as product-comparison criteria. We base product-comparison criteria on meaningful commercial differences among products. In other words, although there may be some physical product characteristics used by manufacturers to describe TRBs, it may be that only a select few product characteristics take into account commercially meaningful physical characteristics. In addition, interested parties may comment on the order in which the physical characteristics should be used in matching products. Generally, the Department attempts to list the most important physical characteristics first and the least important characteristics last.

In order to consider the suggestions of interested parties in developing and issuing the AD questionnaires, all product characteristics comments must be filed by 5:00 p.m. ET on August 1, 2017. Any rebuttal comments must be filed by 5:00 p.m. ET on August 8, 2017. All comments and submissions to the Department must be filed electronically using ACCESS, as explained above.

Determination of Industry Support for the Petition

Section 732(b)(1) of the Act requires that a petition be filed on behalf of the domestic industry. Section 732(c)(4)(A) of the Act provides that a petition meets this requirement if the domestic producers or workers who support the petition account for: (i) At least 25 percent of the total production of the domestic like product; and (ii) more than 50 percent of the production of the domestic like product produced by that portion of the industry expressing support for, or opposition to, the petition. Moreover, section 732(c)(4)(D) of the Act provides that, if the petition does not establish support of domestic producers or workers accounting for more than 50 percent of the total production of the domestic like product, the Department shall: (i) Poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs the Department to look to producers and workers who produce the domestic like product. The U.S. International Trade Commission (ITC), which is responsible for determining whether “the domestic industry” has been injured, must also determine what constitutes a domestic like product in order to define the industry. While both the Department and the ITC must apply the same statutory definition regarding the domestic like product,¹² they do so for different purposes and pursuant to a separate and distinct authority. In addition, the Department's determination is subject to limitations of time and information. Although this may result in different definitions of the like product, such differences do not render the decision of either agency contrary to law.¹³

¹² See section 771(10) of the Act.

¹³ See USEC, Inc. v. United States, 132 F. Supp. 2d 1, 8 (CIT 2001) (citing Algoma Steel Corp., Ltd. v. United States, 688 F. Supp. 639, 644 (CIT 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioner does not offer a definition of domestic like product distinct from the scope of the investigation. Based on our analysis of the information submitted on the record, we have determined that TRBs, as defined in the scope of the investigation, constitute a single domestic like product and we have analyzed industry support in terms of that domestic like product.¹⁴

¹⁴ For a discussion of the domestic like product analysis, see Antidumping Duty Investigation Initiation Checklist: Tapered Roller Bearings from the Republic of Korea (Initiation Checklist), at Attachment II, Analysis of Industry Support for the Antidumping Duty Petition Covering Tapered Roller Bearings from the Republic of Korea, (Attachment II). This checklist is dated concurrently with, and hereby adopted by, this notice and on file electronically via ACCESS. Access to documents filed via ACCESS is also available in the Central Records Unit, Room B8024 of the main Department of Commerce building.

In determining whether the petitioner has standing under section 732(c)(4)(A) of the Act, we considered the industry support data contained in the Petition with reference to the domestic like product as defined in the “Scope of Investigation” section above. To establish industry support, the petitioner provided its net sales in 2015 and compared its net sales to the estimated total shipments of the domestic like product in 2015 for the entire domestic industry.¹⁵ Because data regarding total production of the domestic like product are not reasonably available to the petitioner, and the petitioner has established that shipments are a reasonable proxy for production, we relied on the shipment data for purposes of measuring industry support.¹⁶

¹⁵ See Volume I of the Petition, at I-8 and I-9 and Exhibit I-2. The petitioner states that there are no publicly available sources of data for U.S. production of the domestic like product in 2016. Therefore, the petitioner contends that shipment data from the U.S. Census Bureau's Annual Survey of Manufacturers provides the best available and reasonable proxy for U.S. production. The latest year for which such data are available is 2015. Id., at I-8, I-9 and Exhibit I-2; see also Petition Supplement, at SQ-10 and SQ-11.

¹⁶ See Initiation Checklist, at Attachment II.

On July 5, 2017, we received a submission from RBC Oklahoma, Inc. (RBC), a domestic producer of TRBs. In the submission, RBC states that it supports the AD petition on TRBs from Korea. In addition, RBC provided its 2015 shipments of the domestic like product.¹⁷

¹⁷ See Letter from RBC Oklahoma, Inc., dated July 5, 2017, at 1-2.

We have relied upon information provided in the Petition, Petition Supplement, and the letter provided by RBC for purposes of measuring industry support.¹⁸

¹⁸ See Initiation Checklist, at Attachment II.

Based on information provided in the Petition, Petition Supplement, the letter from RBC, and other information readily available to the Department, we determine that the petitioner has met the statutory criteria for industry support under section 732(c)(4)(A)(i) of the Act because the domestic producers (or workers) who support the Petition account for at least 25 percent of the total shipments ¹⁹ of the domestic like product.²⁰ Based on the information above, the domestic producers (or workers) have met the statutory criteria for industry support under section 732(c)(4)(A)(ii) of the Act for the Petition because the domestic producers (or workers) who support the Petition account for more than 50 percent of the shipments of the domestic like product produced by that portion of the industry expressing support for, or opposition to, the Petition. In addition, the information above establishes that the domestic producers and workers who support the Petition account for more than 50 percent of total shipments of the domestic like product, pursuant to section 734(c)(4)(D) of the Act. Accordingly, the Department determines that the Petition was filed on behalf of the domestic industry within the meaning of section 732(b)(1) of the Act.²¹

¹⁹ As mentioned above, the petitioner established that shipments are a reasonable proxy for production data. Section 351.203(e)(1) of the Department's regulations states “production levels may be established by reference to alternative data that the Secretary determines to be indicative of production levels.”

²⁰ See Initiation Checklist, at Attachment II.

²¹ Id.

The Department finds that the petitioner filed the Petition on behalf of the domestic industry because it is an interested party as defined in section 771(9)(C) of the Act and it has demonstrated sufficient industry support with respect to the antidumping duty investigation that it is requesting the Department initiate.²²

²² Id.

Allegation and Evidence of Material Injury and Causation

The petitioner alleges that the U.S. industry producing the domestic like product is being materially injured, or is threatened with material injury, by reason of the imports of the subject merchandise sold at less than normal value (NV). In addition, the petitioner alleges that subject imports exceed the negligibility threshold provided for under section 771(24)(A) of the Act.²³

²³ See Volume I of the Petition, at I-20 and Exhibit I-10.

The petitioner contends that the industry's injured condition is illustrated by the impact on the domestic industry's reduced market share; underselling and price depression or suppression; lost sales and revenues; decline in wages, hours, and employment; declines in production, capacity utilization, and shipments; decreases in capital expenditures; plant closure and declines in financial performance.²⁴ We have assessed the allegations and supporting evidence regarding material injury, threat of material injury, and causation, and we have determined that these allegations are properly supported by adequate evidence, and meet the statutory requirements for initiation.²⁵

²⁴ Id., at I-20—I-32, Exhibit I-7, Exhibit I-8, and Exhibits I-11 to I-16; see also Supplemental Response, at SQ-6.

²⁵ See Initiation Checklist, at Attachment III, Analysis of Allegations and Evidence of Material Injury and Causation for the Antidumping Duty Petition Covering Certain Tapered Roller Bearings from the Republic of Korea.

Allegation of Sales at Less Than Fair Value

The following is a description of the allegation of sales at less than fair value upon which the Department based its decision to initiate an AD investigation of imports of TRBs from Korea. The sources of data for the deductions and adjustments relating to U.S. price and NV are discussed in greater detail in the Initiation Checklist.

Export Price and Constructed Export Price

The petitioner based the U.S. price on: (1) Average unit values (AUVs) of publicly-available import data for Harmonized Tariff Schedule of the United States (HTSUS) subheadings 8482.20.00.40, 8482.20.00.70, 848220.00.81, and 848299.15.50, covering the period April 2016 through March 2017; ²⁶ and (2) price quotes for sales of TRBs produced in, and exported from, Korea and offered for sale in the United States.²⁷

²⁶ See Initiation Checklist.

²⁷ Id.

With respect to the AUVs, the petitioner used export price (EP) methodology. The petitioner conservatively made no deductions from EP. With respect to the price quotes, the petitioner used constructed export price (CEP) methodology because it had reason to believe that sales are made through U.S. affiliates.²⁸ Where applicable, the petitioner made deductions from CEP for movement expenses, consistent with the terms of sale.²⁹

²⁸ Id.

²⁹ Id.

Normal Value

The petitioner was unable to obtain home market prices for TRBs and, therefore, calculated NV based on constructed value (CV).³⁰

³⁰ Id.

Normal Value Based on CV

Pursuant to 773(e) of the Act, CV consists of the cost of manufacturing (COM); selling, general and administrative (SG&A) expenses; financial expenses; and packing expenses. The petitioner calculated COM during the POI, adjusted for known differences based on information available to the petitioner.³¹ Because publicly available information pertaining to the cost of raw materials in Korea was not reasonably available to it, the petitioner based its raw material cost calculations on its own experience.³² The petitioner valued labor, electricity, and natural gas inputs using publicly available data multiplied by the product-specific usage rates.³³ Because publicly-available information pertaining to the cost of factory overhead in Korea was not reasonably available it, the petitioner based its factory overhead cost calculations on its own experience.³⁴ To calculate the SG&A expense rate, the petitioner relied on the fiscal year end (FYE) December 31, 2016, audited financial statements of Iljin Global Co., Ltd. (Iljin), a Korean producer of comparable merchandise.³⁵ To calculate the financial expense rate, the petitioner relied on the FYE December 31, 2016, audited financial statements of Iljin.³⁶ Because Iljin's financial statements showed net financial income for FY 2016, the petitioner set the financial expense rate to zero and did not include financial expenses in its CV calculations.

³¹ Id.

³² Id.

³³ Id.

³⁴ Id.

³⁵ Id.

³⁶ Id.

Because, as noted above, the petitioner was unable to obtain information pertaining to home market prices, the petitioner calculated NV based on CV.³⁷ Pursuant to section 773(e) of the Act, CV consists of the COM, SG&A, financial expenses, packing expenses, and profit. The petitioner calculated CV using the same COP described above, adding an amount for profit.³⁸ The petitioner calculated the profit rate based on the FYE December 31, 2016, audited financial statements of Iljin.³⁹ The profit rate was applied to the corresponding total COM, SG&A, and financial expenses calculated above to derive CV.⁴⁰

³⁷ Id.

³⁸ Id.

³⁹ Id.

⁴⁰ Id.

Fair Value Comparisons

Based on the data provided by the petitioner, there is reason to believe that imports of TRBs from Korea, are being, or are likely to be, sold in the United States at less than fair value. Based on comparisons of EP and CEP to NV, in accordance with sections 772 and 773 of the Act, the estimated dumping margins for TRBs from Korea are between 46.28 and 132.24 percent.⁴¹

⁴¹ See Initiation Checklist.

Initiation of Less-Than-Fair-Value Investigation

Based upon our examination, we find that the Petition meets the requirements of section 732 of the Act. Therefore, we are initiating an AD investigation to determine whether imports of TRBs from Korea are being, or are likely to be, sold in the United States at less than fair value. In accordance with section 733(b)(1)(A) of the Act and 19 CFR 351.205(b)(1), unless postponed, we will make our preliminary determination no later than 140 days after the date of this initiation.

Under the Trade Preferences Extension Act of 2015, numerous amendments to the AD and countervailing duty (CVD) law were made.⁴² The 2015 law does not specify dates of application for those amendments. On August 6, 2015, the Department published an interpretative rule, in which it announced the applicability dates for each amendment to the Act, except for amendments contained in section 771(7) of the Act, which relate to determinations of material injury by the ITC.⁴³ The amendments to sections 771(15), 773, 776, and 782 of the Act are applicable to all determinations made on or after August 6, 2015, and, therefore, apply to this AD investigation.⁴⁴

⁴² See Trade Preferences Extension Act of 2015, Public Law 114-27, 129 Stat. 362 (2015).

⁴³ See Dates of Application of Amendments to the Antidumping and Countervailing Duty Laws Made by the Trade Preferences Extension Act of 2015, 80 FR 46793 (August 6, 2015).

⁴⁴ Id. at 46794-95. The 2015 amendments may be found at https://www.congress.gov/bill/114th-congress/house-bill/1295/text/pl.

Respondent Selection

The petitioner named 49 companies in Korea ⁴⁵ as producers/exporters of TRBs. Following standard practice in AD investigations involving market economy countries, in the event the Department determines that the number of companies is large, the Department intends to review U.S. Customs and Border Protection (CBP) data for U.S. imports of TRBs during the POI under the appropriate HTSUS subheadings, and if it determines that it cannot individually examine each company based upon the Department's resources, then the Department will select respondents based on those data. We intend to release CBP data under Administrative Protective Order (APO) to all parties with access to information protected by APO within five business days of the announcement of the initiation of this investigation. Comments regarding the CBP data and respondent selection should be submitted seven calendar days after the placement of the CBP data on the record of this investigation. Interested parties wishing to submit rebuttal comments should submit those comments five calendar days after the deadline for initial comments.

⁴⁵ See Volume I of the Petition, at Exhibit I-6.

Comments must be filed electronically using ACCESS. An electronically-filed document must be received successfully, in its entirety, by ACCESS no later than 5:00 p.m. ET on the date noted above. We intend to make our decision regarding respondent selection within 20 days of publication of this notice. Interested parties must submit applications for disclosure under APO in accordance with 19 CFR 351.305(b). Instructions for filing such applications may be found on the Department's Web site at http://enforcement.trade.gov/apo.

Distribution of Copies of the Petition

In accordance with section 732(b)(3)(A)(i) of the Act and 19 CFR 351.202(f), copies of the public version of the Petition have been provided to the government of Korea via ACCESS. To the extent practicable, we will attempt to provide a copy of the public version of the Petition to each exporter named in the Petition, as provided under 19 CFR 351.203(c)(2).

ITC Notification

We will notify the ITC of our initiation, as required by section 732(d) of the Act.

Preliminary Determination by the ITC

The ITC will preliminarily determine, within 45 days after the date on which the Petition was filed, whether there is a reasonable indication that imports of TRBs from Korea are materially injuring or threatening material injury to a U.S. industry.⁴⁶ A negative ITC determination will result in this investigation being terminated.⁴⁷ Otherwise, this investigation will proceed according to statutory and regulatory time limits.

⁴⁶ See section 733(a) of the Act.

⁴⁷ Id.

Submission of Factual Information

Factual information is defined in 19 CFR 351.102(b)(21) as: (i) Evidence submitted in response to questionnaires; (ii) evidence submitted in support of allegations; (iii) publicly available information to value factors under 19 CFR 351.408(c) or to measure the adequacy of remuneration under 19 CFR 351.511(a)(2); (iv) evidence placed on the record by the Department; and (v) evidence other than factual information described in (i)-(iv). Any party, when submitting factual information, to specify under which subsection of 19 CFR 351.102(b)(21) the information is being submitted ⁴⁸ and, if the information is submitted to rebut, clarify, or correct factual information already on the record, to provide an explanation identifying the information already on the record that the factual information seeks to rebut, clarify, or correct.⁴⁹ Time limits for the submission of factual information are addressed in 19 CFR 351.301, which provides specific time limits based on the type of factual information being submitted. Interested parties should review the regulations prior to submitting factual information in this investigation.

⁴⁸ See 19 CFR 351.301(b).

⁴⁹ See 19 CFR 351.301(b)(2).

Extensions of Time Limits

Parties may request an extension of time limits before the expiration of a time limit established under 19 CFR 351.301, or as otherwise specified by the Secretary. In general, an extension request will be considered untimely if it is filed after the expiration of the time limit established under 19 CFR 351.301. For submissions that are due from multiple parties simultaneously, an extension request will be considered untimely if it is filed after 10:00 a.m. ET on the due date. Under certain circumstances, we may elect to specify a different time limit by which extension requests will be considered untimely for submissions which are due from multiple parties simultaneously. In such a case, we will inform parties in the letter or memorandum setting forth the deadline (including a specified time) by which extension requests must be filed to be considered timely. An extension request must be made in a separate, stand-alone submission; under limited circumstances we will grant untimely-filed requests for the extension of time limits. Parties should review Extension of Time Limits; Final Rule, 78 FR 57790 (September 20, 2013), available at http://www.gpo.gov/fdsys/pkg/FR-2013-09-20/html/2013-22853.htm, prior to submitting factual information in this investigation.

Certification Requirements

Any party submitting factual information in an AD or CVD proceeding must certify to the accuracy and completeness of that information.⁵⁰ Parties are hereby reminded that revised certification requirements are in effect for company/government officials, as well as their representatives. Investigations initiated on the basis of a petition filed on or after August 16, 2013, and other segments of any AD or CVD proceedings initiated on or after August 16, 2013, should use the formats for the revised certifications provided at the end of the Final Rule.⁵¹ The Department intends to reject factual submissions if the submitting party does not comply with applicable revised certification requirements.

⁵⁰ See section 782(b) of the Act.

⁵¹ See Certification of Factual Information to Import Administration during Antidumping and Countervailing Duty Proceedings, 78 FR 42678 (July 17, 2013) (Final Rule); see also Frequently Asked Questions regarding the Final Rule, available at http://enforcement.trade.gov/tlei/notices/factual_info_final_rule_FAQ_07172013.pdf.

Notification to Interested Parties

Interested parties must submit applications for disclosure under APO in accordance with 19 CFR 351.305. On January 22, 2008, the Department published Antidumping and Countervailing Duty Proceedings: Documents Submission Procedures; APO Procedures, 73 FR 3634 (January 22, 2008). Parties wishing to participate in this investigation should ensure that they meet the requirements of these procedures (e.g., the filing of letters of appearance as discussed in 19 CFR 351.103(d)).

This notice is issued and published pursuant to sections 732(c)(2) and 777(i) of the Act, and 19 CFR 351.203(c).

Dated: July 18, 2017.
Gary Taverman,
Deputy Assistant Secretary for Antidumping and Countervailing Duty Operations, performing the non-exclusive functions and duties of the Assistant Secretary for Enforcement and Compliance.

Appendix

Scope of the Investigation

The scope of this investigation is certain tapered roller bearings. The scope covers all tapered roller bearings with a nominal outside cup diameter of eight inches and under, regardless of type of steel used to produce the bearing, whether of inch or metric size, and whether the tapered roller bearing is a thrust bearing or not. Certain tapered roller bearings include: Finished cup and cone assemblies entering as a set, finished cone assemblies entering separately, and finished parts (cups, cones, and tapered rollers). Certain tapered roller bearings are sold individually as a set (cup and cone assembly), as a cone assembly, as a finished cup, or packaged as a kit with one or several tapered roller bearings, a seal, and grease. The scope of the investigation includes finished rollers and finished cones that have not been assembled with rollers and a cage. Certain tapered roller bearings can be a single row or multiple rows (e.g., two- or four-row), and a cup can handle a single cone assembly or multiple cone assemblies.

Finished cups, cones, and rollers differ from unfinished cups, cones, and rollers in that they have undergone further processing after heat treatment, including, but not limited to, final machining, grinding, and/or polishing. Mere heat treatment of a cup, cone, or roller (without any further processing after heat treatment) does not render the cup, cone, or roller a finished part for the purpose of this investigation. Finished tapered roller bearing parts are understood to mean parts which, at the time of importation, are ready for assembly (if further assembly is required) and require no further finishing or fabrication, such as grinding, lathing, machining, polishing, heat treatment, etc. Finished parts may require grease, bolting, and/or pressing as part of final assembly, and the requirement that these processes be performed, subsequent to importation, does not remove an otherwise finished tapered roller bearing from the scope.

Tapered roller bearings that have a nominal outer cup diameter of eight inches and under that may be used in wheel hub units, rail bearings, or other housed bearings, but entered separately, are included in the scope to the same extent as described above. All tapered roller bearings meeting the written description above, and not otherwise excluded, are included, regardless of coating.

Excluded from the scope of this investigation are:

(1) Unfinished parts of tapered roller bearings (cups, cones, and tapered rollers);

(2) cages, whether finished or unfinished;

(3) the non-tapered roller bearing components of subject kits (e.g., grease, seal); and

(4) tapered roller bearing wheel hub units, rail bearings, and other housed tapered roller bearings (flange, take up cartridges, and hanger units incorporating tapered rollers).

Tapered roller bearings subject to this investigation are primarily classifiable under subheadings 8482.20.0040, 8482.20.0061, 8482.20.0070, 8482.20.0081, 8482.91.0050, 8482.99.1550, and 8482.99.1580 of the Harmonized Tariff Schedule of the United States (HTSUS).⁵² Parts may also enter under 8482.99.4500. While the HTSUS subheadings are provided for convenience and for customs purposes, the written description of the subject merchandise is dispositive.

⁵² Prior to July 2016, products entering under 8482.20.0061 entered under 8482.20.0060, products entering under 8482.20.0081 entered under 8482.20.0080, and products entering under 8482.99.1550 entered under 8482.99.1540.

[FR Doc. 2017-15563 Filed 7-24-17; 8:45 am]

BILLING CODE 3510-DS-P